The President

3 CFR

Proclamation 8296—To Modify Duty-free Treatment Under The Caribbean Basin Economic Recovery Act and for Other Purposes

Correction

In Presidential document E8-23562 beginning on page 57475 in the issue of Friday, October 3, 2008, make the following correction:

On page 57483 the Filed date should read “10-2-08”.

[FR Doc. Z8-23562 Filed 10-10-08; 8:45 am]

BILLING CODE 1505-01-D